DEPARTMENT OF COMMERCE

National Oceanic and Atmospheric Administration

DEPARTMENT OF THE INTERIOR

Fish and Wildlife Service

50 CFR Part 404

[Docket No. 080227317-81455-02]

RIN 0648-AW44

Papahanaumokuakea Marine National Monument Proclamation Provisions

AGENCIES: National Oceanic and Atmospheric Administration (NOAA), Department of Commerce (DOC); United States Fish and Wildlife Service (USFWS), Department of the Interior (DOI).

ACTION: Final rule.

SUMMARY: NOAA and the USFWS are publishing final regulations to establish a ship reporting system for the Papahanaumokuakea Marine National Monument. This action implements measures adopted by the International Maritime Organization requiring notification by ships passing through the Monument without interruption.

DATES: This rule is effective January 2, 2009.

ADDRESSES: For copies of the environmental assessment or other related documents, please write to: T. Aulani Wilhelm, Monument Superintendent (NOAA); 6600 Kalanianaole Highway, 300, Honolulu, HI 96825. Written comments regarding the burden-hour estimates or other aspects of the collection-of-information requirements contained in this final rule may be submitted to (enter office name) and by e-mail to David_Rostker@omb.eop.gov, or fax to (202) 395-7285.

Copies of the final environmental assessment may be viewed and downloaded at http://hawaiireef.noaa.gov/.

FOR FURTHER INFORMATION CONTACT: T. Aulani Wilhelm, Monument Superintendent (NOAA); 6600 Kalanianaole Highway, 300, Honolulu, HI 96825; (808) 397-2657.

SUPPLEMENTARY INFORMATION:

I. Statutory and Regulatory Background

On June 15, 2006, President Bush established the Northwestern Hawaiian Islands Marine National Monument (Monument) by issuing Presidential Proclamation 8031 (Proclamation); (71 FR 36443, June 26, 2006) under the authority of the Antiquities Act (Act) (16 U.S.C. 431). The Proclamation reserves all lands and interests in lands owned or controlled by the Government of the United States in the Northwestern Hawaiian Islands (NWHI), including emergent and submerged lands and waters, out to a distance of approximately 50 nautical miles (nmi) from the islands. The outer boundary of the Monument is approximately 100 nmi wide and extends approximately 1200 nmi around coral islands, seamounts, banks, and shoals. The area includes the Northwestern Hawaiian Islands Coral Reef Ecosystem Reserve, the Midway Atoll National Wildlife Refuge/Battle of Midway National Memorial, and the Hawaiian Islands National Wildlife Refuge. The Monument was renamed the Papahanaumokuakea Marine National Monument by Proclamation 8112 (72 FR 10029, February 28, 2007).

The Proclamation provides that the Secretary of Commerce, through NOAA, has primary responsibility regarding the management of the marine areas of the Monument, in consultation with the Secretary of the Interior. The Secretary of the Interior, through the USFWS, has sole responsibility for management of the areas of the Monument that overlay the Midway Atoll National Wildlife Refuge, the Battle of Midway National Memorial, and the Hawaiian Islands National Wildlife Refuge, in consultation with the Secretary of Commerce. Further, the Proclamation provides that nothing in the Proclamation diminishes or enlarges the jurisdiction of the State of Hawaii. The Monument includes state waters, including the Northwestern Hawaiian Islands State Marine Refuge and State Seabird Sanctuary at Kure Atoll. The State currently holds the submerged and ceded lands of the NWHI in trust. This public trust is overseen by the Office of Hawaiian Affairs through an amendment to the Constitution of the State of Hawaii. The State of Hawaii has primary responsibility for managing the State waters of the Monument.

In 2006 NOAA and USFWS published joint regulations codifying the provisions of the Proclamation (71 FR 51134, August 29, 2006). With certain exceptions, the Proclamation and the joint regulations restrict access to the Monument to persons who have been issued Monument permits. Vessels that do not have permits cannot enter the Monument except for uninterrupted passage through the Monument and notice must be provided to NOAA by telephone, fax, or e-mail not less than 72 hours and not more than one month prior to passing through the Monument. Notice must also be provided not more than twelve hours after the vessel has exited the Monument. All of the terms of the Proclamation and the regulations are applied in accordance with international law.

The Proclamation directed the Secretary of State, in consultation with the Secretaries of Commerce and the Interior, to take appropriate action to enter into negotiations with other governments to make necessary arrangements for the protection of the Monument and to promote the purposes for which it was established. The proclamation further directed the Secretary of State to seek the cooperation of other governments and international organizations in furtherance of the purposes of the Proclamation and consistent with applicable regional and multilateral arrangements for the protection and management of special marine areas.

In April 2007 and in accordance with the Proclamation, the United States proposed to the International Maritime Organization (IMO), a specialized agency of the United Nations, that the Monument be designated as a Particularly Sensitive Sea Area (PSSA) to protect the attributes of the fragile and integrated coral reef ecosystem from potential hazards associated with international shipping activities. The U.S. noted in its proposal that the burden on international shipping by the proposed PSSA and its associated protective measures would be minimal while its objectives—increased maritime safety, protection of the fragile environment, preservation of cultural resources and areas of cultural importance significant to Native Hawaiians, as well as facilitation of the ability to respond to developing maritime emergencies—would be significantly furthered. PSSA designation had been granted previously to only ten marine areas globally, including the marine areas around the Florida Keys, the Great Barrier Reef, and the Galapagos.

On April 3, 2008, the IMO designated the Monument as a PSSA. As part of the PSSA designation process, the IMO adopted U.S. proposals for associated protective measures consisting of (1) expanding and consolidating the six existing recommendatory Areas To Be Avoided (ATBAs) in the Monument into four larger areas and enlarging the class of vessels to which they apply; and (2) establishing a ship reporting system for vessels transiting the Monument, which is mandatory for ships 300 gross tons or greater that are entering or departing a U.S. port or place and recommended for other ships. The system requires that ships notify the U.S. shore-based authority (i.e., the U.S. Coast Guard; NOAA will be receiving all messages associated with this program on behalf of the Coast Guard) at the time they begin transiting the reporting area and again when they exit. Notification is made by e-mail through the Inmarsat-C system or other satellite communication system. It is estimated that almost all commercial vessel traffic will be able to report via Inmarsat-C.

The PSSA and associated protective measures were adopted to provide additional protection to the exceptional natural, cultural and historic resources in the Monument. Requiring vessels to notify NOAA upon entering the reporting area will help make the operators of these vessels aware that they are traveling through a fragile area with potential navigational hazards such as the extensive coral reefs found in many shallow areas of the Monument. The PSSA is now in effect, and the IMO has provided for an effective date for the associated protective measures of May 1, 2008.

NOAA and USFWS are establishing the infrastructure that will be required to maintain an international ship reporting system and to ensure that information regarding PSSA designation will be incorporated into nautical charts and other information sources. This rule implements the mandatory ship reporting system as adopted by IMO, establishes the reporting area using the IMO boundary coordinates, and publishes the coordinates of the four ATBAs.

II. Vessel Reporting Requirements

These regulations apply to vessels that do not have permits to enter the Monument and that pass through the Monument without interruption. These regulations do not change the exemptions at 50 CFR 404.8 (activities necessary to respond to emergencies or necessary for law enforcement purposes) and 404.9 (activities and exercises of the Armed Forces, including those of the United States Coast Guard) and, therefore, do not apply to vessels covered by those exemptions. As explained further, below, these regulations also do not apply to sovereign immune vessels.

The regulations accomplish the following actions:

(1) Modify the current notification requirements (at 50 CFR 404.4) for passing through the Monument without interruption and add several new associated terms and definitions (at Sec. 404.3);

(2) Establish a reporting area around the Monument, extending outward ten nautical miles from the Monument boundary but excluding the ATBAs within the Monument;

(3) Describe the categories of vessels that are subject to the reporting requirement;

(4) Specify the type of information regarding the vessel, its location, etc. that is required in the e-mail to NOAA and that is to be sent in a reporting format that is consistent with the reporting system adopted by IMO;

(5) Allow for vessels that do not have e-mail capability to continue to comply with the current prior notification requirements;

(6) Recommend voluntary participation in the reporting system for all other vessels that are not required to notify NOAA; and

(7) Publish the revised boundaries of the four voluntary ATBAs.

Each of these elements is described below.

A. Modification of Existing Notification Requirements

Monument regulations at 50 CFR 404.4 prohibit entry into the Monument except in certain situations. One of the exceptions is for vessels passing through the Monument without interruption. Those vessels, however, are currently required to provide notice prior to entering and after leaving the Monument. Notification of entry must be provided at least 72 hours, but no longer than 1 month, prior to the entry date. Notification of departure from the Monument must be provided within 12 hours of leaving. Notification may be made by e-mail, telephone, or fax and must include the following information: Position when making the report; vessel name and IMO identification number; name, address, and telephone number of owner and operator; United States Coast Guard documentation, state license, or registration number; home port; intended and actual route through the Monument; general categories of any hazardous cargo on board; and length of vessel and propulsion type (e.g., motor or sail).

These changes to the regulations replace the current notification requirements for vessels that have e-mail capability. Vessels without e-mail capability will continue to provide notification in advance and upon exiting the Monument as described previously but the type of information to be provided is modified by these regulations as indicated below.

The following terms are being added to the definitions at 50 CFR 404.3 to facilitate implementation of the proposed ship reporting requirements: “Areas to be avoided”; “Categories of hazardous cargoes”; “IMO”; and “Reporting area.” The definitions to these terms are contained in the text of the regulations.

B. Reporting Area

The regulations create a reporting area extending ten miles out and entirely around the Monument boundary. The coordinates of the area are set forth in Appendix D of the regulations and are the same as the coordinates that were adopted by IMO when it accepted the PSSA in principle and adopted the associated protective measures for the PSSA in 2007. Certain categories of vessels (described below) that intend to pass through the Monument without interruption are required to e-mail certain information at the time they cross the reporting area boundary and again when they exit the reporting area after having passed through the Monument.

The reporting area does not include the ATBAs within the Monument. As such, vessels that pass through an ATBA while passing through the Monument must notify NOAA at the time they exit the reporting area and enter the ATBA, and again when they exit the ATBA and re-enter the reporting area.

There are three large areas of the Monument (within the reporting area) that are not within the IMO-designated ATBAs. These breaks between the four ATBAs allow for primarily north-south passage through the Monument. From west to east, these areas are in the following locations and are shown in Figure 1: Between the ATBAs extending around Pearl and Hermes Atoll and Lisianski Island; between the ATBAs around Maro Reef and Gardner Pinnacles; and between the ATBAs around Mokumanamana (Necker Island) and Nihoa Island. It is anticipated that vessels will navigate through the Monument via these areas. Vessels passing through the Monument in these areas are only required to send e-mail notification upon entering the reporting area and again upon leaving it.

BILLING CODE 3510-22-P

BILLING CODE 3510-22-C

C. Vessels That Are Required To Provide Notification

All vessels of the United States—regardless of size—are subject to the proposed reporting requirements. All foreign vessels greater than 300 gross tons and that are either going to or coming from a U.S. port or place are required to participate in the ship reporting system. Foreign vessels of any size that are heading to or coming from a U.S. port or place are also required to provide e-mail notification if they experience an emergency while crossing through the reporting area. Although e-mail capability is now routine on vessels greater than 300 gross tons and is also widely used by many smaller vessels, vessels of the United States less than 300 gross tons that do not have e-mail capability remain subject to the advanced notice reporting requirements currently in effect. These vessels will continue to be required to follow the current reporting process: Provide notice by telephone, fax, or e-mail not less than 72 hours but not more than one month prior to entering the Monument for uninterrupted passage and to provide notification of departing the Monument within 12 hours of leaving.

Vessels are not required to provide notification if they operate in the reporting area but remain outside of the Monument, such as fishing vessels fishing outside the Monument boundary. However, if the operator of a vessel within the reporting area decides to cross uninterrupted through the Monument all of the notification requirements will then apply. In no case may the vessel lawfully pass through the Monument until notification had been provided, consistent with these regulations.

The reporting requirements do not apply to vessels of the Armed Forces and the United States Coast Guard because the prohibitions in the Proclamation and the regulations do not apply to their activities and exercises (50 CFR 404.9(a)). In addition, the ship reporting system adopted by the IMO specifically exempts all sovereign immune vessels from the reporting requirement and, therefore, the regulations published today do not apply to these vessels. Vessel sovereign immunity is interpreted in light of relevant provisions of international instruments, such as the IMO-adopted ship reporting system, Article 36 of the United Nations Convention on the Law of the Sea, and Chapter 5, Regulation 1 of the International Convention for the Safety of Life at Sea. This is consistent with provisions of the Proclamation and the regulations that state the Proclamation shall be applied in accordance with international law. No restrictions shall apply to or be enforced against a person who is not a citizen, national, or resident alien of the United States (including foreign flag vessels) unless in accordance with international law.

D. Specific Information and Reporting Format Required for Entry and Exit Notifications by Vessels With E-mail Capability

The information that each vessel must submit and the format in which it must be submitted are shown in Appendix E to the regulations. The information to be provided upon entering the reporting area and the reporting format are based on and consistent with the reporting requirements adopted by IMO and include: Vessel identification information (i.e., name, call sign, flag, IMO identification number); date and time of entry; position; true course; speed in knots and tenths; destination and estimated time of arrival; intended route through the reporting area; vessel draft; categories of hazardous cargoes on board; any vessel defects or deficiencies that restrict maneuverability or impair normal navigation; any pollution incident or goods lost overboard within the Monument, reporting area, or the U.S. EEZ; contact information for the vessel's agent or owner; vessel size (length overall, gross tonnage) and type; and total number of persons on board. Information required when the vessel leaves the reporting area includes: Vessel identification information (i.e., name, call sign, flag, IMO identification number); date and time of exit; position; and any pollution incident or goods lost overboard within the Monument, reporting area, or the U.S. EEZ.

The system that is being established to receive the notifications is based on Inmarsat-C and NOAA will assume the cost associated with Inmarsat-C transmissions to the e-mail address provided under this program. This rule does not require a vessel to install or use Inmarsat-C, but NOAA will not assume costs associated with e-mail transmissions sent through other satellite communications systems. Vessel owners who receive an Inmarsat-C charge for any e-mail sent to NOAA pursuant to these regulations will be reimbursed upon invoicing NOAA with a copy of the charges.

E. Specific Information and Reporting Format Required for Entry and Exit Notifications by Vessels Without Onboard E-mail Capability

Vessels of the United States less than 300 gross tons that do not have onboard e-mail capability are required to submit the following information not less than 72 hours but not more than one month prior to entering the Monument for uninterrupted passage: Vessel identification information (e.g., name, call sign, flag, IMO identification number); date and time of entry; position (as applicable); destination and estimated time of arrival; intended route through the Monument and the reporting area; vessel draft; categories of hazardous cargoes on board (as applicable); any vessel defects or deficiencies that restrict maneuverability or impair normal navigation; contact information for the vessel's agent or owner; vessel size (length overall, gross tonnage) and type; and total number of persons on board. Upon exiting the Monument these vessels must provide the following information within 12 hours of leaving: Vessel identification information (e.g., name, call sign, flag, IMO identification number); date and time of exit; position; and any pollution incident or goods lost overboard within the Monument, reporting area, or the U.S. EEZ. This information may be submitted by nonvessel-based e-mail (e.g., from home or office), fax, or telephone. Once a vessel is equipped with an onboard e-mail system, however, it must comply with the requirements for vessels with that capability, including the reporting format shown in Appendix E to the regulations.

F. Voluntary Participation in the Ship Reporting System by All Other Vessels

Vessels that are not required to participate in the ship reporting system are nevertheless strongly urged to participate on a voluntary basis. Participation will help make the operators of these vessels aware that they are traveling through a fragile area with potential navigational hazards such as the extensive coral reefs found in many shallow areas of the Monument. Voluntary participation will increase maritime safety, protection of the fragile environment, preservation of cultural resources and areas of cultural importance significant to Native Hawaiians. Participation will also facilitate the ability to respond to developing maritime emergencies.

G. Modification of the Areas To Be Avoided (ATBAs)

An ATBA is an area within which either navigation is particularly hazardous or it is exceptionally important to avoid casualties. As such, ATBAs should be avoided by all ships, or certain classes of ships. While ATBAs can be mandatory (i.e., vessels are required by applicable law to avoid and operate outside of the area) most are voluntary and vessels may travel through them. The IMO adopted six voluntary ATBAs in the Northwestern Hawaiian Islands in 1980. Part of the action taken in 2008 by the IMO was to enlarge the six original ATBAs so that they now connect in certain places resulting in four larger ATBAs. This rule publishes the coordinates of these four ATBAs. The coordinates are attached to the regulations as Appendix C. The ATBAs are not part of the reporting area and vessels that enter any ATBA while passing through the Monument without interruption must provide an exit notification upon entering the ATBA, an entry notification again upon reentering the reporting area, and a second exit notification when the vessel departed the reporting area and the Monument on the other side. Thus, transiting through the Monument via an ATBA requires four reports as compared with the two reports required for transiting the Monument between the ATBAs.

III. Response to Comments

Comments on the proposed rule and the draft environmental assessment were received from the following: The Department of the Navy; the United States Coast Guard; the Missile Defense Agency; and the Marine Mammal Commission. The comments did not result in any changes to the proposed regulations but additional discussion has been added to the preamble of this final rule to clarify that the reporting requirements do not apply to activities and exercises of the Armed Forces (including those carried out by the United States Coast Guard) or to sovereign immune vessels of foreign nations. The comments are summarized below together with responses from NOAA and FWS.

Comment 1: It should be clear that the Armed Forces exception in 50 CFR 404.9 applies to the new ship reporting regulations.

Response: The reporting regulations do not affect the Armed Forces exception to the prohibitions set forth in the Proclamation and in the regulations at 50 CFR 404.9. The reporting regulations do not apply to activities and exercises of the Armed Forces, (including those carried out by the United States Coast Guard) that are consistent with applicable laws. The Armed Forces exemptions in the Proclamation and at 50 CFR 404.9 are not affected by these regulations.

Comment 2: Clarify that the regulations do not affect international legal principles governing freedom of navigation for sovereign immune vessels in international waters, such as foreign warships, and law-enforcement craft.

Response: Language has been added to section 404.4(c) to clarify that the regulations do not apply to sovereign immune vessels in international waters. The ship reporting system adopted by the IMO specifically exempts all sovereign immune vessels from the reporting requirement and, therefore, the regulations published today do not apply to these vessels. This is consistent with provisions of the Proclamation and the regulations that state the Proclamation shall be applied in accordance with international law. No restrictions shall apply to or be enforced against a person who is not a citizen, national, or resident alien of the United States (including foreign flag vessels) unless in accordance with international law.

Comment 3: The ATBAs are recommendatory and ships should not be required to report their entry into or exit from Monument ATBAs.

Response: The regulations do not require vessels to report when they enter or exit ATBAs. They do, however, require vessels to notify the U.S. shore-based authority (NOAA, on behalf of the U.S. Coast Guard) whenever they enter or exit the Reporting Area. As adopted by the IMO and implemented by these regulations, the ATBAs are outside of the Reporting Area. A vessel entering an ATBA is required to notify NOAA because it is exiting the Reporting Area and it must send another e-mail when it reenters the Reporting Area from an ATBA or anywhere else that is outside of the Reporting Area.

Comment 4: Modify the reporting requirements to: (a) Ensure that all vessels in the reporting area or Monument immediately report any emergencies; (b) clarify that emergencies include any accidents, pollution incidents, or losses of cargo that could pose a risk to natural and cultural resources; and (c) identify the types of information to be reported in cases of emergencies.

Response: At this time, NOAA and FWS are maintaining the regulations as proposed to implement the measures recommended by the IMO, but will consider a separate rule making to address whether and how to require the reporting of emergencies in the Monument. The scope of such a rule could apply to a broader category of vessels than those simply passing through the Monument without interruption and could include vessels entering the Monument pursuant to permits. Such a rule would also be applied in accordance with international law.

Comment 5: Include in the ship reporting system a return message describing why special precautions are needed in the area, the Areas To Be Avoided, other relevant protection measures and appropriate information (e.g., permit requirements for any activity other than uninterrupted passage through the Monument).

Response: A return message will be sent back to vessels that provide e-mail notification and will include relevant information such as precautions while in the Monument and other matters.

IV. Classification

A. National Environmental Policy Act

An environmental assessment has been prepared to evaluate the proposed revisions to the reporting requirements and resulted in a Finding of No Significant Impact (FONSI). Copies are available at the address and Web site listed in the ADDRESSES section of this rule.

B. Executive Order 12866: Regulatory Impact

This rule has been determined to be not significant within the meaning of Executive Order 12866.

C. Executive Order 13132: Federalism Assessment

NOAA has concluded this regulatory action does not have federalism implications sufficient to warrant preparation of a federalism assessment under Executive Order 13132. The State of Hawaii was consulted during the promulgation of this rule.

D. Paperwork Reduction Act

This rule contains a collection-of-information requirement subject to the Paperwork Reduction Act (PRA) and which has been approved by OMB under control number 0648-0548. Public reporting burden for entry and exit notification is expected to average 15 minutes per response, including the time for reviewing instructions, searching existing data sources, gathering and maintaining the data needed, and completing and reviewing the collection of information. In the proposed rule, NOAA and FWS requested public comment regarding this collection of information and burden estimate. No comments were received.

E. Regulatory Flexibility Act

The Chief Counsel for Regulation of the Department of Commerce certified to the Chief Counsel for Advocacy of the Small Business Administration (SBA) that this rule would not have a significant economic impact on a substantial number of small entities.

The factual basis for this certification is as follows:

The regulations establish a ship reporting system for the Monument. When transiting the Monument, all U.S. vessels, all foreign-flag vessels 300 gross tons or greater that are going to or coming from a U.S. port or place, and all foreign-flag vessels of any size coming from a U.S. port or place and experiencing an emergency while crossing through the reporting area are required to participate in the reporting system. Specific information is required to be transmitted via e-mail to NOAA upon entry into and exit from the reporting area. Vessels without onboard e-mail capability will continue to provide notification as originally required by the Monument regulations at 50 CFR part 404, and the information provided is essentially the same as required previously.

The SBA establishes size standards for determining whether a U.S. entity is a small business. The size standards relevant to this proposed rulemaking are: finfish fishing (NAICS Code 114111): Average annual receipts of $4.0 million or less; and deep sea freight transport (NAICS Code 483111): average employment of 500 employees or less. Approximately 120 U.S. fishing vessels are expected to be impacted by this rulemaking, and all are considered to be small entities. U.S. freight transport vessels are expected to be affected by this rulemaking, though none are considered to be small entities. All vessels without e-mail capability are considered to be small entities.

The cost of the regulation is not expected to be significant. It is expected that vessels transiting the Monument will remain outside of the designated ATBA's to avoid navigational hazards in the ATBA's. For these vessels, two e-mails will be required for compliance with the proposed rule: One upon entering the reporting area and one upon exiting the reporting area. For those vessels that cross into the ATBA's, four e-mails will be necessary. Because the ATBA's are not part of the reporting system, the vessel will enter and exit the reporting area twice. The cost of sending an e-mail varies depending on the type of service, the provider rates and the length of the message but is estimated to be approximately $1.75 per entry report e-mail sent via Inmarsat-C. The exit report should cost approximately $0.50. It will take approximately 15 minutes or less to send each e-mail.

Because NOAA is paying for the monetary cost of e-mail transmissions using the Inmarsat-C system, this cost will not be accrued by any small entities. Entities using other e-mail systems, however, will bear the monetary cost of e-mail transmission in addition to the time cost. For those vessels without on-board e-mail capability, cost of compliance for notification prior to entry is expected to be the cost of a standard fax or e-mail charge, or will be free if the information is provided by telephone using the 1-800 number listed in the regulations. An exit notification made within 12 hours will require the use of a satellite telephone, the cost of which will be subject to rate variables. However, the content to be conveyed is relatively brief and can be provided in approximately one minute.

Given the minimal cost of compliance with this rulemaking, the impact of this rule is not expected to be significant. As a result, a regulatory flexibility analysis is not required and none has been prepared.

List of Subjects in 50 CFR Part 404

Administrative practice and procedure, Coastal zone, Fish, Fisheries, Historic preservation, Intergovernmental relations, Marine resources, Monuments and memorials, Natural resources, Reporting and recordkeeping requirements, Wildlife, Wildlife refuges.

Dated: November 21, 2008.
Jane C. Luxton,
General Counsel, National Oceanic and Atmospheric Administration.
Dated: November 20, 2008.
Lyle Laverty,
Assistant Secretary for Fish and Wildlife and Parks.

Accordingly, for the reasons set forth in the preamble, NOAA and USFWS amend part 404, title 50 of the Code of Federal Regulations as follows:

PART 404—[AMENDED]

1. The authority citation for part 404 continues to read as follows:

Authority: 16 U.S.C. 431 et seq.; 16 U.S.C. 460k-3; 16 U.S.C. 1801 et seq.; 16 U.S.C. 742f, 16 U.S.C. 742l, and 16 U.S.C. 668dd-ee; 16 U.S.C. 1361 et seq.; 16 U.S.C. 1531 et seq., Public Law 106-513, Sec. 6(g) (2000).

2. In § 404.3, definitions for “Areas to be avoided,” “Categories of Hazardous cargoes,” “IMO,” and “Reporting area” are added alphabetically as follows:

§ 404.3 Definitions.

* * * * *

Areas to be avoided means the four designated areas that should be avoided by vessels that are conducting passage through the Monument without interruption. Appendix C sets forth the coordinates of these areas.

* * * * *

Categories of hazardous cargoes means goods classified in the International Maritime Dangerous Goods (IMDG) Code; substances classified in chapter 17 of the International Code for the Construction and Equipment of Ships Carrying Dangerous Chemicals in Bulk (IBC Code) and chapter 19 of the International Code for the Construction and Equipment of Ships Carrying Liquefied Gases in Bulk (IGC Code); oils as defined in MARPOL Annex I; noxious liquid substances as defined in MARPOL Annex II; harmful substances as defined in MARPOL Annex III; and radioactive materials specified in the Code for the Safe Carriage of the Irradiated Nuclear Fuel, Plutonium and High-Level Radioactive Wastes in Flasks on Board Ships (INF Code).

* * * * *

IMO means the International Maritime Organization.

* * * * *

Reporting area means the area within the coordinates set forth in Appendix D.

* * * * *

3. Revise § 404.4 to read as follows:

§ 404.4 Access to Monument.

(a) Entering the Monument is prohibited and thus unlawful except:

(1) As provided in §§ 404.8 and 404.9;

(2) Pursuant to a permit issued under §§ 404.10 or 404.11; or

(3) When conducting passage without interruption in accordance with paragraphs (b) through (f) of this section.

(b) Any person passing through the Monument without interruption is subject to the prohibitions in §§ 404.5, 404.6, and 404.7.

(c) The following vessels, except vessels entitled to sovereign immunity under international law, passing through the Monument without interruption must participate in the ship reporting system as provided in paragraphs (d) and (e) of this section:

(1) Vessels of the United States, except as provided in paragraph (f) of this section;

(2) All other ships 300 gross tonnage or greater, entering or departing a United States port or place; and

(3) All other ships in the event of an emergency, entering or departing a United States port or place.

(d) Immediately upon entering the reporting area, the vessels described in paragraph (c) of this section must provide the following information by e-mail sent to nwhi.notifications@noaa.gov in the IMO standard reporting format and data syntax shown in Appendix E:

(1) Vessel name, call sign or ship station identity, flag, and IMO identification number if applicable, and either Federal documentation or State registration number if applicable.

(2) Date, time (UTC) and month of entry.

(3) Position.

(4) True course.

(5) Speed in knots and tenths.

(6) Destination and estimated time of arrival.

(7) Intended route through the Monument and the reporting area.

(8) Vessel draft (in meters).

(9) Categories of hazardous cargoes on board.

(10) Any vessel defects or deficiencies that restrict maneuverability or impair normal navigation.

(11) Any pollution incident or goods lost overboard within the Monument, the reporting area, or the U.S. EEZ.

(12) Contact information for the vessel's agent or owner.

(13) Vessel size (length overall, gross tonnage) and type.

(14) Total number of persons on board.

(e) Immediately upon leaving the reporting area, the vessels described in paragraph (c) must provide the following information by e-mail sent to nwhi.notifications@noaa.gov in the IMO standard reporting format and data syntax shown in Appendix E:

(1) Vessel name, call sign or ship station identity, flag, and IMO identification number if applicable, and either Federal documentation or State registration number if applicable.

(2) Date, time (UTC) and month of exit.

(3) Position.

(4) Any pollution incident or goods lost overboard within the Monument, the reporting area, or the U.S. EEZ.

(f)(1) Vessels of the United States less than 300 gross tonnage that are not equipped with onboard e-mail capability must provide notification of entry and the information described in paragraphs (d)(1), (2), (3) as applicable, (6), (7), (8), (9) as applicable, (10), (12), (13), and (14) of this section at least 72 hours, but no longer than 1 month, prior to the entry date. Notification of departure from the Monument and the information described in paragraph (e) of this section must be provided within 12 hours of leaving. Notification under this paragraph may be made by e-mail, telephone, or fax, by contacting: (i) E-mail: nwhi.notifications@noaa.gov;

(ii) Telephone: 1-866-478-NWHI (6944);

(iii) Fax: 1-808-397-2662.

(2) The information must be provided in the IMO standard reporting format and data syntax shown in Appendix E.

(g) All vessels passing through the Monument without interruption other than those described in paragraphs (c)(1) through (3) of this section should participate in the ship reporting system set forth in paragraphs (d) and (e) of this section.

4. Add Appendix C to Part 404 to read as follows:

Appendix C to Part 404—Boundary Coordinated for Papahānaumokuākea Marine National Monument Areas To Be Avoided

Appendix C—Geographical Coordinates

Areas To Be Avoided

Papahanaumokuakea Marine National Monument

Reference chart: United States 540, 2008 edition; 19016, 2008 edition; 19019, 2008 edition; 19022, 2008 edition.

These charts are based on World Geodetic System 1984 Datum (WGS-84) and astronomic datum.

Table C-1—Kure Atoll, Midway Atoll, and Pearl and Hermes Atoll
Point | Latitude (N) | Longitude (W)
1 | 27°14′.76 | 176°29′.87
2 | 27°24′.95 | 177°33′.31
3 | 27°35′.87 | 178°29′.90
4 | 27°36′.64 | 178°33′.93
5 | 27°37′.53 | 178°37′.32
6 | 27°38′.60 | 178°40′.65
7 | 27°39′.85 | 178°43′.90
8 | 27°41′.28 | 178°47′.05
9 | 27°42′.89 | 178°50′.10
10 | 27°44′.66 | 178°53′.03
11 | 27°46′.59 | 178°55′.83
12 | 27°48′.67 | 178°58′.49
13 | 27°50′.89 | 179°01′.00
14 | 27°53′.22 | 179°03′.39
15 | 27°55′.69 | 179°05′.61
16 | 27°58′.29 | 179°07′.61
17 | 28°01′.01 | 179°09′.47
18 | 28°03′.81 | 179°11′.10
19 | 28°06′.71 | 179°12′.53
20 | 28°09′.67 | 179°13′.75
21 | 28°12′.70 | 179°14′.75
22 | 28°15′.78 | 179°15′.54
23 | 28°18′.91 | 179°16′.11
24 | 28°22′.04 | 179°16′.45
25 | 28°24′.72 | 179°16′.56
26 | 28°25′.20 | 179°16′.57
27 | 28°25′.81 | 179°16′.56
28 | 28°28′.35 | 179°16′.44
29 | 28°31′.49 | 179°16′.10
30 | 28°34′.61 | 179°15′.54
31 | 28°37′.69 | 179°14′.75
32 | 28°40′.71 | 179°13′.74
33 | 28°43′.68 | 179°12′.54
34 | 28°46′.58 | 179°11′.13
35 | 28°49′.39 | 179°09′.52
36 | 28°52′.11 | 179°07′.70
37 | 28°54′.72 | 179°05′.70
38 | 28°57′.21 | 179°03′.51
39 | 28°59′.58 | 179°01′.15
40 | 29°01′.81 | 178°58′.62
41 | 29°03′.90 | 178°55′.93
42 | 29°05′.83 | 178°53′.10
43 | 29°07′.60 | 178°50′.13
44 | 29°09′.21 | 178°47′.04
45 | 29°10′.64 | 178°43′.84
46 | 29°11′.89 | 178°40′.54
47 | 29°12′.95 | 178°37′.16
48 | 29°13′.82 | 178°33′.71
49 | 29°14′.50 | 178°30′.21
50 | 29°14′.99 | 178°26′.66
51 | 29°15′.28 | 178°23′.08
52 | 29°15′.36 | 178°19′.49
53 | 29°15′.25 | 178°15′.90
54 | 29°14′.94 | 178°12′.32
55 | 29°14′.43 | 178°08′.78
56 | 29°03′.47 | 177°12′.07
57 | 29°02′.55 | 177°07′.29
58 | 28°38′.96 | 175°35′.47
59 | 28°38′.67 | 175°34′.35
60 | 28°34′.91 | 175°19′.74
61 | 28°26′.24 | 175°10′.65
62 | 28°24′.61 | 175°08′.95
63 | 28°24′.53 | 175°09′.04
64 | 28°20′.09 | 175°04′.91
65 | 28°16′.05 | 175°01′.92
66 | 28°11′.78 | 174°59′.33
67 | 28°07′.29 | 174°57′.23
68 | 28°02′.63 | 174°55′.68
69 | 27°57′.84 | 174°54′.62
70 | 27°53′.01 | 174°54′.05
71 | 27°48′.12 | 174°54′.05
72 | 27°43′.28 | 174°54′.62
73 | 27°38′.48 | 174°55′.71
74 | 27°33′.81 | 174°57′.32
75 | 27°29′.30 | 174°59′.43
76 | 27°25′.00 | 175°02′.03
77 | 27°20′.93 | 175°05′.07
78 | 27°17′.18 | 175°08′.59
79 | 27°13′.73 | 175°12′.47
80 | 27°10′.59 | 175°16′.67
81 | 27°07′.88 | 175°21′.25
82 | 27°05′.57 | 175°26′.09
83 | 27°03′.66 | 175°31′.15
84 | 27°02′.22 | 175°36′.40
85 | 27°01′.29 | 175°41′.78
86 | 27°00′.73 | 175°47′.22
87 | 27°00′.68 | 175°52′.74
88 | 27°01′.09 | 175°58′.16
89 | 27°01′.99 | 176°03′.53
90 | 27°03′.34 | 176°08′.81
91 | 27°05′.12 | 176°13′.91
92 | 27°07′.37 | 176°18′.79
93 | 27°09′.98 | 176°23′.40
94 | 27°13′.02 | 176°27′.74
95 | 27°13′.77 | 176°28′.70

Table C-2—Lisianski Island, Laysan Island, Maro Reef, and Raita Bank
Point | Latitude (N) | Longitude (W)
1 | 26°50′.89 | 173°30′.79
2 | 26°36′.00 | 171°37′.70
3 | 26°35′.49 | 171°33′.84
4 | 26°35′.10 | 171°30′.84
5 | 26°34′.07 | 171°27′.50
6 | 26°33′.35 | 171°25′.16
7 | 26°14′.26 | 170°23′.04
8 | 26°08′.69 | 169°48′.96
9 | 26°08′.36 | 169°49′.03
10 | 26°07′.62 | 169°45′.83
11 | 26°06′.03 | 169°40′.57
12 | 26°03′.97 | 169°35′.64
13 | 26°01′.51 | 169°30′.91
14 | 25°58′.65 | 169°26′.45
15 | 25°55′.32 | 169°22′.34
16 | 25°51′.67 | 169°18′.60
17 | 25°47′.78 | 169°15′.19
18 | 25°43′.54 | 169°12′.34
19 | 25°39′.05 | 169°09′.93
20 | 25°34′.37 | 169°08′.08
21 | 25°29′.54 | 169°06′.76
22 | 25°24′.61 | 169°05′.93
23 | 25°19′.63 | 169°05′.64
24 | 25°14′.65 | 169°05′.93
25 | 25°09′.69 | 169°06′.66
26 | 25°04′.85 | 169°08′.02
27 | 25°00′.17 | 169°09′.96
28 | 24°55′.66 | 169°12′.35
29 | 24°51′.35 | 169°15′.14
30 | 24°47′.37 | 169°18′.48
31 | 24°43′.69 | 169°22′.22
32 | 24°40′.34 | 169°26′.31
33 | 24°37′.42 | 169°30′.78
34 | 24°35′.00 | 169°35′.64
35 | 24°33′.02 | 169°40′.66
36 | 24°31′.34 | 169°45′.88
37 | 24°30′.31 | 169°51′.08
38 | 24°29′.68 | 169°56′.53
39 | 24°29′.56 | 170°01′.81
40 | 24°29′.61 | 170°04′.57
41 | 24°35′.77 | 170°44′.39
42 | 24°36′.29 | 170°47′.58
43 | 24°37′.18 | 170°50′.37
44 | 24°37′.76 | 170°52′.17
45 | 24°56′.23 | 171°50′.19
46 | 25°16′.61 | 174°24′.84
47 | 25°29′.56 | 174°38′.45
48 | 25°33′.28 | 174°42′.03
49 | 25°37′.33 | 174°45′.20
50 | 25°41′.68 | 174°47′.84
51 | 25°46′.23 | 174°50′.05
52 | 25°50′.93 | 174°51′.77
53 | 25°55′.80 | 174°52′.91
54 | 26°00′.71 | 174°53′.47
55 | 26°05′.67 | 174°53′.61
56 | 26°10′.59 | 174°53′.07
57 | 26°15′.46 | 174°52′.08
58 | 26°20′.20 | 174°50′.57
59 | 26°24′.75 | 174°48′.44
60 | 26°29′.15 | 174°45′.94
61 | 26°33′.26 | 174°42′.96
62 | 26°37′.11 | 174°39′.49
63 | 26°40′.60 | 174°35′.63
64 | 26°43′.75 | 174°31′.43
65 | 26°46′.49 | 174°26′.87
66 | 26°48′.90 | 174°22′.09
67 | 26°50′.79 | 174°17′.03
68 | 26°52′.20 | 174°11′.79
69 | 26°53′.21 | 174°06′.43
70 | 26°53′.74 | 174°00′.98
71 | 26°53′.74 | 173°55′.48
72 | 26°53′.29 | 173°50′.02
73 | 26°52′.56 | 173°44′.58
74 | 26°51′.85 | 173°39′.14
75 | 26°51′.13 | 173°33′.69
76 | 26°50′.75 | 173°30′.87

Table C-3—Gardner Pinnacles, French Frigate Shoals, and Necker Island
Point | Latitude (N) | Longitude (W)
1 | 25°49′.64 | 167°52′.66
2 | 25°49′.70 | 167°52′.65
3 | 25°48′.99 | 167°48′.35
4 | 25°47′.09 | 167°36′.72
5 | 25°39′.84 | 167°26′.48
6 | 25°35′.10 | 167°19′.79
7 | 25°10′.43 | 166°45′.00
8 | 24°40′.91 | 166°03′.36
9 | 24°35′.64 | 165°34′.99
10 | 24°23′.78 | 164°31′.12
11 | 24°23′.59 | 164°31′.14
12 | 24°23′.31 | 164°29′.74
13 | 24°21′.85 | 164°24′.52
14 | 24°20′.10 | 164°19′.39
15 | 24°17′.75 | 164°14′.56
16 | 24°14′.99 | 164°09′.97
17 | 24°11′.86 | 164°05′.69
18 | 24°08′.30 | 164°01′.80
19 | 24°04′.48 | 163°58′.23
20 | 24°00′.27 | 163°55′.22
21 | 23°55′.85 | 163°52′.59
22 | 23°51′.17 | 163°50′.56
23 | 23°46′.33 | 163°48′.98
24 | 23°41′.37 | 163°47′.99
25 | 23°36′.34 | 163°47′.56
26 | 23°31′.27 | 163°47′.60
27 | 23°26′.27 | 163°48′.28
28 | 23°21′.34 | 163°49′.50
29 | 23°16′.53 | 163°51′.14
30 | 23°11′.96 | 163°53′.47
31 | 23°07′.54 | 163°56′.15
32 | 23°03′.46 | 163°59′.38
33 | 22°59′.65 | 164°03′.01
34 | 22°56′.27 | 164°07′.10
35 | 22°53′.22 | 164°11′.49
36 | 22°50′.60 | 164°16′.18
37 | 22°48′.48 | 164°21′.16
38 | 22°46′.73 | 164°26′.28
39 | 22°45′.49 | 164°31′.60
40 | 22°44′.83 | 164°37′.03
41 | 22°44′.65 | 164°42′.51
42 | 22°44′.92 | 164°47′.99
43 | 22°45′.11 | 164°49′.52
44 | 22°45′.39 | 164°51′.48
45 | 22°45′.17 | 164°51′.53
46 | 22°50′.26 | 165°34′.99
47 | 22°55′.50 | 166°19′.63
48 | 22°55′.93 | 166°23′.32
49 | 22°57′.41 | 166°36′.00
50 | 23°03′.75 | 166°45′.00
51 | 23°05′.48 | 166°47′.45
52 | 24°12′.70 | 168°22′.86
53 | 24°12′.88 | 168°22′.78
54 | 24°16′.05 | 168°27′.28
55 | 24°19′.15 | 168°31′.66
56 | 24°22′.27 | 168°35′.95
57 | 24°25′.71 | 168°39′.94
58 | 24°29′.51 | 168°43′.55
59 | 24°33′.67 | 168°46′.63
60 | 24°38′.06 | 168°49′.29
61 | 24°42′.68 | 168°51′.46
62 | 24°47′.45 | 168°53′.12
63 | 24°52′.34 | 168°54′.28
64 | 24°57′.32 | 168°54′.82
65 | 25°02′.32 | 168°54′.95
66 | 25°07′.30 | 168°54′.43
67 | 25°12′.19 | 168°53′.32
68 | 25°16′.99 | 168°51′.76
69 | 25°21′.57 | 168°49′.60
70 | 25°25′.94 | 168°46′.93
71 | 25°30′.09 | 168°43′.86
72 | 25°33′.89 | 168°40′.42
73 | 25°37′.37 | 168°36′.52
74 | 25°40′.49 | 168°32′.24
75 | 25°43′.24 | 168°27′.68
76 | 25°45′.57 | 168°22′.82
77 | 25°47′.43 | 168°17′.76
78 | 25°48′.79 | 168°12′.47
79 | 25°49′.72 | 168°07′.09
80 | 25°50′.11 | 168°01′.62
81 | 25°50′.18 | 168°00′.09

Table C-4—Nihoa Island
Point | Latitude (N) | Longitude (W)
1 | 23°52′.82 | 161°44′.54
2 | 23°52′.10 | 161°41′.20
3 | 23°51′.18 | 161°37′.92
4 | 23°50′.08 | 161°34′.71
5 | 23°48′.79 | 161°31′.58
6 | 23°47′.33 | 161°28′.55
7 | 23°45′.69 | 161°25′.62
8 | 23°43′.88 | 161°22′.81
9 | 23°41′.92 | 161°20′.13
10 | 23°39′.80 | 161°17′.60
11 | 23°37′.54 | 161°15′.21
12 | 23°35′.14 | 161°12′.99
13 | 23°32′.62 | 161°10′.93
14 | 23°29′.99 | 161°09′.05
15 | 23°27′.25 | 161°07′.35
16 | 23°24′.42 | 161°05′.85
17 | 23°21′.51 | 161°04′.54
18 | 23°18′.52 | 161°03′.43
19 | 23°15′.48 | 161°02′.53
20 | 23°12′.39 | 161°01′.84
21 | 23°09′.27 | 161°01′.35
22 | 23°06′.13 | 161°01′.09
23 | 23°02′.97 | 161°01′.03
24 | 22°59′.82 | 161°01′.19
25 | 22°56′.69 | 161°01′.57
26 | 22°53′.58 | 161°02′.15
27 | 22°50′.51 | 161°02′.95
28 | 22°47′.50 | 161°03′.95
29 | 22°44′.55 | 161°05′.15
30 | 22°41′.67 | 161°06′.54
31 | 22°38′.88 | 161°08′.13
32 | 22°36′.19 | 161°09′.90
33 | 22°33′.61 | 161°11′.85
34 | 22°31′.14 | 161°13′.97
35 | 22°28′.81 | 161°16′.25
36 | 22°26′.61 | 161°18′.69
37 | 22°24′.56 | 161°21′.26
38 | 22°22′.66 | 161°23′.97
39 | 22°20′.92 | 161°26′.80
40 | 22°19′.35 | 161°29′.74
41 | 22°17′.95 | 161°32′.78
42 | 22°16′.73 | 161°35′.90
43 | 22°15′.70 | 161°39′.10
44 | 22°14′.85 | 161°42′.37
45 | 22°14′.20 | 161°45′.68
46 | 22°13′.73 | 161°49′.03
47 | 22°13′.47 | 161°52′.41
48 | 22°13′.40 | 161°55′.80
49 | 22°13′.53 | 161°59′.18
50 | 22°13′.85 | 162°02′.55
51 | 22°14′.31 | 162°05′.45
52 | 22°14′.37 | 162°05′.89
53 | 22°14′.59 | 162°06′.88
54 | 22°15′.87 | 162°12′.18
55 | 22°17′.70 | 162°17′.31
56 | 22°19′.97 | 162°22′.20
57 | 22°22′.73 | 162°26′.84
58 | 22°25′.88 | 162°31′.15
59 | 22°29′.41 | 162°35′.09
60 | 22°33′.28 | 162°38′.61
61 | 22°37′.47 | 162°41′.72
62 | 22°41′.93 | 162°44′.34
63 | 22°46′.63 | 162°46′.47
64 | 22°51′.48 | 162°48′.05
65 | 22°56′.46 | 162°49′.09
66 | 23°01′.50 | 162°49′.58
67 | 23°06′.58 | 162°49′.49
68 | 23°11′.61 | 162°48′.89
69 | 23°16′.57 | 162°47′.70
70 | 23°21′.36 | 162°45′.98
71 | 23°26′.02 | 162°43′.75
72 | 23°30′.40 | 162°41′.01
73 | 23°34′.51 | 162°37′.83
74 | 23°38′.26 | 162°34′.18
75 | 23°41′.69 | 162°30′.18
76 | 23°44′.72 | 162°25′.79
77 | 23°47′.36 | 162°21′.11
78 | 23°49′.55 | 162°16′.16
79 | 23°51′.24 | 162°10′.99
80 | 23°52′.44 | 162°05′.63
81 | 23°53′.14 | 162°00′.25
82 | 23°53′.36 | 161°54′.75
83 | 23°53′.09 | 161°49′.28
84 | 23°52′.82 | 161°47′.09
85 | 23°52′.39 | 161°44′.67

5. Add Appendix D to Part 404 to read as follows:

Appendix D to Part 404—Boundary Coordinates for Papahānaumokuākea Marine National Monument Ship Reporting Area

Appendix D—Geographical Coordinates

Ship Reporting Area

Papahānaumokuākea Marine National Monument

Reference chart: United States 540, 2008 edition; 19016, 2008 edition; 19019, 2008 edition; 19022, 2008 edition.

These charts are based on World Geodetic System 1984 Datum (WGS-84) and astronomic datum.

Table D-1—Outer Boundary
Point | Latitude (N) | Longitude (W)
1 | 29°25′.47 | 178°16′.97
2 | 28°43′.73 | 175°13′.84
3 | 27°00′.77 | 173°25′.78
4 | 26°44′.91 | 171°28′.07
5 | 26°24′.23 | 170°20′.59
6 | 25°56′.43 | 167°32′.10
7 | 24°50′.20 | 165°58′.69
8 | 24°05′.52 | 161°56′.86
9 | 24°05′.29 | 161°56′.62
10 | 24°04′.37 | 161°51′.53
11 | 24°03′.44 | 161°46′.45
12 | 24°02′.41 | 161°41′.39
13 | 24°01′.31 | 161°36′.35
14 | 23°59′.68 | 161°31′.55
15 | 23°57′.85 | 161°26′.85
16 | 23°55′.54 | 161°22′.31
17 | 23°52′.96 | 161°17′.92
18 | 23°50′.12 | 161°13′.72
19 | 23°46′.94 | 161°10′.08
20 | 23°43′.49 | 161°06′.47
21 | 23°39′.71 | 161°03′.09
22 | 23°35′.72 | 161°00′.14
23 | 23°31′.59 | 160°57′.46
24 | 23°27′.32 | 160°55′.23
25 | 23°22′.74 | 160°53′.71
26 | 23°18′.29 | 160°52′.17
27 | 23°13′.57 | 160°51′.04
28 | 23°08′.68 | 160°50′.46
29 | 23°03′.70 | 160°50′.17
30 | 22°58′.67 | 160°50′.35
31 | 22°53′.84 | 160°51′.04
32 | 22°49′.11 | 160°52′.20
33 | 22°44′.46 | 160°53′.56
34 | 22°40′.03 | 160°55′.52
35 | 22°35′.73 | 160°57′.68
36 | 22°31′.54 | 161°00′.25
37 | 22°27′.57 | 161°03′.23
38 | 22°23′.76 | 161°06′.64
39 | 22°20′.24 | 161°10′.23
40 | 22°17′.02 | 161°14′.13
41 | 22°14′.04 | 161°18′.34
42 | 22°11′.35 | 161°22′.80
43 | 22°09′.19 | 161°27′.45
44 | 22°07′.29 | 161°32′.11
45 | 22°05′.87 | 161°36′.94
46 | 22°04′.62 | 161°41′.89
47 | 22°03′.94 | 161°47′.09
48 | 22°03′.41 | 161°52′.36
49 | 22°03′.41 | 161°57′.51
50 | 22°03′.82 | 162°02′.83
51 | 22°04′.49 | 162°08′.04
52 | 22°05′.43 | 162°13′.12
53 | 22°05′.97 | 162°16′.41
54 | 22°06′.29 | 162°16′.85
55 | 22°34′.57 | 164°47′.27
56 | 22°47′.60 | 166°38′.23
57 | 24°03′.82 | 168°27′.91
58 | 24°25′.76 | 170°45′.39
59 | 24°46′.54 | 171°53′.03
60 | 25°07′.60 | 174°28′.71
61 | 27°05′.82 | 176°35′.51
62 | 27°27′.32 | 178°38′.66
63 | 27°28′.93 | 178°43′.56
64 | 27°30′.64 | 178°48′.40
65 | 27°32′.74 | 178°52′.96
66 | 27°35′.06 | 178°57′.30
67 | 27°37′.89 | 179°01′.49
68 | 27°40′.90 | 179°05′.60
69 | 27°44′.17 | 179°09′.41
70 | 27°47′.74 | 179°12′.85
71 | 27°51′.45 | 179°16′.00
72 | 27°55′.32 | 179°18′.82
73 | 27°59′.33 | 179°21′.13
74 | 28°03′.49 | 179°23′.15
75 | 28°07′.82 | 179°24′.76
76 | 28°12′.31 | 179°26′.18
77 | 28°16′.95 | 179°27′.05
78 | 28°21′.61 | 179°27′.63
79 | 28°26′.18 | 179°27′.77
80 | 28°30′.87 | 179°27′.48
81 | 28°35′.61 | 179°26′.95
82 | 28°40′.09 | 179°25′.75
83 | 28°44′.46 | 179°24′.31
84 | 28°48′.70 | 179°22′.50
85 | 28°52′.81 | 179°20′.43
86 | 28°56′.71 | 179°17′.77
87 | 29°00′.58 | 179°14′.92
88 | 29°04′.18 | 179°11′.69
89 | 29°07′.62 | 179°08′.20
90 | 29°10′.86 | 179°04′.37
91 | 29°13′.76 | 179°00′.21
92 | 29°16′.24 | 178°55′.78
93 | 29°18′.51 | 178°51′.26
94 | 29°20′.45 | 178°46′.50
95 | 29°22′.26 | 178°41′.67
96 | 29°23′.52 | 178°36′.64
97 | 29°24′.53 | 178°31′.54
98 | 29°25′.16 | 178°26′.31
99 | 29°25′.42 | 178°20′.92
100 | 29°25′.29 | 178°16′.70

Table D-2—Inner Boundary Around Kure Atoll, Midway Atoll, and Pearl and Hermes Atoll
Point | Latitude (N) | Longitude (W)
1 | 27°14′.76 | 176°29′.87
2 | 27°24′.95 | 177°33′.31
3 | 27°35′.87 | 178°29′.90
4 | 27°36′.64 | 178°33′.93
5 | 27°37′.53 | 178°37′.32
6 | 27°38′.60 | 178°40′.65
7 | 27°39′.85 | 178°43′.90
8 | 27°41′.28 | 178°47′.05
9 | 27°42′.89 | 178°50′.10
10 | 27°44′.66 | 178°53′.03
11 | 27°46′.59 | 178°55′.83
12 | 27°48′.67 | 178°58′.49
13 | 27°50′.89 | 179°01′.00
14 | 27°53′.22 | 179°03′.39
15 | 27°55′.69 | 179°05′.61
16 | 27°58′.29 | 179°07′.61
17 | 28°01′.01 | 179°09′.47
18 | 28°03′.81 | 179°11′.10
19 | 28°06′.71 | 179°12′.53
20 | 28°09′.67 | 179°13′.75
21 | 28°12′.70 | 179°14′.75
22 | 28°15′.78 | 179°15′.54
23 | 28°18′.91 | 179°16′.11
24 | 28°22′.04 | 179°16′.45
25 | 28°24′.72 | 179°16′.56
26 | 28°25′.20 | 179°16′.57
27 | 28°25′.81 | 179°16′.56
28 | 28°28′.35 | 179°16′.44
29 | 28°31′.49 | 179°16′.10
30 | 28°34′.61 | 179°15′.54
31 | 28°37′.69 | 179°14′.75
32 | 28°40′.71 | 179°13′.74
33 | 28°43′.68 | 179°12′.54
34 | 28°46′.58 | 179°11′.13
35 | 28°49′.39 | 179°09′.52
36 | 28°52′.11 | 179°07′.70
37 | 28°54′.72 | 179°05′.70
38 | 28°57′.21 | 179°03′.51
39 | 28°59′.58 | 179°01′.15
40 | 29°01′.81 | 178°58′.62
41 | 29°03′.90 | 178°55′.93
42 | 29°05′.83 | 178°53′.10
43 | 29°07′.60 | 178°50′.13
44 | 29°09′.21 | 178°47′.04
45 | 29°10′.64 | 178°43′.84
46 | 29°11′.89 | 178°40′.54
47 | 29°12′.95 | 178°37′.16
48 | 29°13′.82 | 178°33′.71
49 | 29°14′.50 | 178°30′.21
50 | 29°14′.99 | 178°26′.66
51 | 29°15′.28 | 178°23′.08
52 | 29°15′.36 | 178°19′.49
53 | 29°15′.25 | 178°15′.90
54 | 29°14′.94 | 178°12′.32
55 | 29°14′.43 | 178°08′.78
56 | 29°03′.47 | 177°12′.07
57 | 29°02′.55 | 177°07′.29
58 | 28°38′.96 | 175°35′.47
59 | 28°38′.67 | 175°34′.35
60 | 28°34′.91 | 175°19′.74
61 | 28°26′.24 | 175°10′.65
62 | 28°24′.61 | 175°08′.95
63 | 28°24′.53 | 175°09′.04
64 | 28°20′.09 | 175°04′.91
65 | 28°16′.05 | 175°01′.92
66 | 28°11′.78 | 174°59′.33
67 | 28°07′.29 | 174°57′.23
68 | 28°02′.63 | 174°55′.68
69 | 27°57′.84 | 174°54′.62
70 | 27°53′.01 | 174°54′.05
71 | 27°48′.12 | 174°54′.05
72 | 27°43′.28 | 174°54′.62
73 | 27°38′.48 | 174°55′.71
74 | 27°33′.81 | 174°57′.32
75 | 27°29′.30 | 174°59′.43
76 | 27°25′.00 | 175°02′.03
77 | 27°20′.93 | 175°05′.07
78 | 27°17′.18 | 175°08′.59
79 | 27°13′.73 | 175°12′.47
80 | 27°10′.59 | 175°16′.67
81 | 27°07′.88 | 175°21′.25
82 | 27°05′.57 | 175°26′.09
83 | 27°03′.66 | 175°31′.15
84 | 27°02′.22 | 175°36′.40
85 | 27°01′.29 | 175°41′.78
86 | 27°00′.73 | 175°47′.22
87 | 27°00′.68 | 175°52′.74
88 | 27°01′.09 | 175°58′.16
89 | 27°01′.99 | 176°03′.53
90 | 27°03′.34 | 176°08′.81
91 | 27°05′.12 | 176°13′.91
92 | 27°07′.37 | 176°18′.79
93 | 27°09′.98 | 176°23′.40
94 | 27°13′.02 | 176°27′.74
95 | 27°13′.77 | 176°28′.70

Table D-3—Inner Boundary Around Lisianski Island, Laysan Island, Maro Reef, and Raita Bank
Point | Latitude (N) | Longitude (W)
1 | 26°50′.89 | 173°30′.79
2 | 26°36′.00 | 171°37′.70
3 | 26°35′.49 | 171°33′.84
4 | 26°35′.10 | 171°30′.84
5 | 26°34′.07 | 171°27′.50
6 | 26°33′.35 | 171°25′.16
7 | 26°14′.26 | 170°23′.04
8 | 26°08′.69 | 169°48′.96
9 | 26°08′.36 | 169°49′.03
10 | 26°07′.62 | 169°45′.83
11 | 26°06′.03 | 169°40′.57
12 | 26°03′.97 | 169°35′.64
13 | 26°01′.51 | 169°30′.91
14 | 25°58′.65 | 169°26′.45
15 | 25°55′.32 | 169°22′.34
16 | 25°51′.67 | 169°18′.60
17 | 25°47′.78 | 169°15′.19
18 | 25°43′.54 | 169°12′.34
19 | 25°39′.05 | 169°09′.93
20 | 25°34′.37 | 169°08′.08
21 | 25°29′.54 | 169°06′.76
22 | 25°24′.61 | 169°05′.93
23 | 25°19′.63 | 169°05′.64
24 | 25°14′.65 | 169°05′.93
25 | 25°09′.69 | 169°06′.66
26 | 25°04′.85 | 169°08′.02
27 | 25°00′.17 | 169°09′.96
28 | 24°55′.66 | 169°12′.35
29 | 24°51′.35 | 169°15′.14
30 | 24°47′.37 | 169°18′.48
31 | 24°43′.69 | 169°22′.22
32 | 24°40′.34 | 169°26′.31
33 | 24°37′.42 | 169°30′.78
34 | 24°35′.00 | 169°35′.64
35 | 24°33′.02 | 169°40′.66
36 | 24°31′.34 | 169°45′.88
37 | 24°30′.31 | 169°51′.08
38 | 24°29′.68 | 169°56′.53
39 | 24°29′.56 | 170°01′.81
40 | 24°29′.61 | 170°04′.57
41 | 24°35′.77 | 170°44′.39
42 | 24°36′.29 | 170°47′.58
43 | 24°37′.18 | 170°50′.37
44 | 24°37′.76 | 170°52′.17
45 | 24°56′.23 | 171°50′.19
46 | 25°16′.61 | 174°24′.84
47 | 25°29′.56 | 174°38′.45
48 | 25°33′.28 | 174°42′.03
49 | 25°37′.33 | 174°45′.20
50 | 25°41′.68 | 174°47′.84
51 | 25°46′.23 | 174°50′.05
52 | 25°50′.93 | 174°51′.77
53 | 25°55′.80 | 174°52′.91
54 | 26°00′.71 | 174°53′.47
55 | 26°05′.67 | 174°53′.61
56 | 26°10′.59 | 174°53′.07
57 | 26°15′.46 | 174°52′.08
58 | 26°20′.20 | 174°50′.57
59 | 26°24′.75 | 174°48′.44
60 | 26°29′.15 | 174°45′.94
61 | 26°33′.26 | 174°42′.96
62 | 26°37′.11 | 174°39′.49
63 | 26°40′.60 | 174°35′.63
64 | 26°43′.75 | 174°31′.43
65 | 26°46′.49 | 174°26′.87
66 | 26°48′.90 | 174°22′.09
67 | 26°50′.79 | 174°17′.03
68 | 26°52′.20 | 174°11′.79
69 | 26°53′.21 | 174°06′.43
70 | 26°53′.74 | 174°00′.98
71 | 26°53′.74 | 173°55′.48
72 | 26°53′.29 | 173°50′.02
73 | 26°52′.56 | 173°44′.58
74 | 26°51′.85 | 173°39′.14
75 | 26°51′.13 | 173°33′.69
76 | 26°50′.75 | 173°30′.87

Table D-4—Inner Boundary Around Gardner Pinnacles, French Frigate Shoals, and Necker Island
Point | Latitude (N) | Longitude (W)
1 | 25°49′.64 | 167°52′.66
2 | 25°49′.70 | 167°52′.65
3 | 25°48′.99 | 167°48′.35
4 | 25°47′.09 | 167°36′.72
5 | 25°39′.84 | 167°26′.48
6 | 25°35′.10 | 167°19′.79
7 | 25°10′.43 | 166°45′.00
8 | 24°40′.91 | 166°03′.36
9 | 24°35′.64 | 165°34′.99
10 | 24°23′.78 | 164°31′.12
11 | 24°23′.59 | 164°31′.14
12 | 24°23′.31 | 164°29′.74
13 | 24°21′.85 | 164°24′.52
14 | 24°20′.10 | 164°19′.39
15 | 24°17′.75 | 164°14′.56
16 | 24°14′.99 | 164°09′.97
17 | 24°11′.86 | 164°05′.69
18 | 24°08′.30 | 164°01′.80
19 | 24°04′.48 | 163°58′.23
20 | 24°00′.27 | 163°55′.22
21 | 23°55′.85 | 163°52′.59
22 | 23°51′.17 | 163°50′.56
23 | 23°46′.33 | 163°48′.98
24 | 23°41′.37 | 163°47′.99
25 | 23°36′.34 | 163°47′.56
26 | 23°31′.27 | 163°47′.60
27 | 23°26′.27 | 163°48′.28
28 | 23°21′.34 | 163°49′.50
29 | 23°16′.53 | 163°51′.14
30 | 23°11′.96 | 163°53′.47
31 | 23°07′.54 | 163°56′.15
32 | 23°03′.46 | 163°59′.38
33 | 22°59′.65 | 164°03′.01
34 | 22°56′.27 | 164°07′.10
35 | 22°53′.22 | 164°11′.49
36 | 22°50′.60 | 164°16′.18
37 | 22°48′.48 | 164°21′.16
38 | 22°46′.73 | 164°26′.28
39 | 22°45′.49 | 164°31′.60
40 | 22°44′.83 | 164°37′.03
41 | 22°44′.65 | 164°42′.51
42 | 22°44′.92 | 164°47′.99
43 | 22°45′.11 | 164°49′.52
44 | 22°45′.39 | 164°51′.48
45 | 22°45′.17 | 164°51′.53
46 | 22°50′.26 | 165°34′.99
47 | 22°55′.50 | 166°19′.63
48 | 22°55′.93 | 166°23′.32
49 | 22°57′.41 | 166°36′.00
50 | 23°03′.75 | 166°45′.00
51 | 23°05′.48 | 166°47′.45
52 | 24°12′.70 | 168°22′.86
53 | 24°12′.88 | 168°22′.78
54 | 24°16′.05 | 168°27′.28
55 | 24°19′.15 | 168°31′.66
56 | 24°22′.27 | 168°35′.95
57 | 24°25′.71 | 168°39′.94
58 | 24°29′.51 | 168°43′.55
59 | 24°33′.67 | 168°46′.63
60 | 24°38′.06 | 168°49′.29
61 | 24°42′.68 | 168°51′.46
62 | 24°47′.45 | 168°53′.12
63 | 24°52′.34 | 168°54′.28
64 | 24°57′.32 | 168°54′.82
65 | 25°02′.32 | 168°54′.95
66 | 25°07′.30 | 168°54′.43
67 | 25°12′.19 | 168°53′.32
68 | 25°16′.99 | 168°51′.76
69 | 25°21′.57 | 168°49′.60
70 | 25°25′.94 | 168°46′.93
71 | 25°30′.09 | 168°43′.86
72 | 25°33′.89 | 168°40′.42
73 | 25°37′.37 | 168°36′.52
74 | 25°40′.49 | 168°32′.24
75 | 25°43′.24 | 168°27′.68
76 | 25°45′.57 | 168°22′.82
77 | 25°47′.43 | 168°17′.76
78 | 25°48′.79 | 168°12′.47
79 | 25°49′.72 | 168°07′.09
80 | 25°50′.11 | 168°01′.62
81 | 25°50′.18 | 168°00′.09

Table D-5—Inner Boundary Around Nihoa Island
Point | Latitude (N) | Longitude (W)
1 | 23°52′.82 | 161°44′.54
2 | 23°52′.10 | 161°41′.20
3 | 23°51′.18 | 161°37′.92
4 | 23°50′.08 | 161°34′.71
5 | 23°48′.79 | 161°31′.58
6 | 23°47′.33 | 161°28′.55
7 | 23°45′.69 | 161°25′.62
8 | 23°43′.88 | 161°22′.81
9 | 23°41′.92 | 161°20′.13
10 | 23°39′.80 | 161°17′.60
11 | 23°37′.54 | 161°15′.21
12 | 23°35′.14 | 161°12′.99
13 | 23°32′.62 | 161°10′.93
14 | 23°29′.99 | 161°09′.05
15 | 23°27′.25 | 161°07′.35
16 | 23°24′.42 | 161°05′.85
17 | 23°21′.51 | 161°04′.54
18 | 23°18′.52 | 161°03′.43
19 | 23°15′.48 | 161°02′.53
20 | 23°12′.39 | 161°01′.84
21 | 23°09′.27 | 161°01′.35
22 | 23°06′.13 | 161°01′.09
23 | 23°02′.97 | 161°01′.03
24 | 22°59′.82 | 161°01′.19
25 | 22°56′.69 | 161°01′.57
26 | 22°53′.58 | 161°02′.15
27 | 22°50′.51 | 161°02′.95
28 | 22°47′.50 | 161°03′.95
29 | 22°44′.55 | 161°05′.15
30 | 22°41′.67 | 161°06′.54
31 | 22°38′.88 | 161°08′.13
32 | 22°36′.19 | 161°09′.90
33 | 22°33′.61 | 161°11′.85
34 | 22°31′.14 | 161°13′.97
35 | 22°28′.81 | 161°16′.25
36 | 22°26′.61 | 161°18′.69
37 | 22°24′.56 | 161°21′.26
38 | 22°22′.66 | 161°23′.97
39 | 22°20′.92 | 161°26′.80
40 | 22°19′.35 | 161°29′.74
41 | 22°17′.95 | 161°32′.78
42 | 22°16′.73 | 161°35′.90
43 | 22°15′.70 | 161°39′.10
44 | 22°14′.85 | 161°42′.37
45 | 22°14′.20 | 161°45′.68
46 | 22°13′.73 | 161°49′.03
47 | 22°13′.47 | 161°52′.41
48 | 22°13′.40 | 161°55′.80
49 | 22°13′.53 | 161°59′.18
50 | 22°13′.85 | 162°02′.55
51 | 22°14′.31 | 162°05′.45
52 | 22°14′.37 | 162°05′.89
53 | 22°14′.59 | 162°06′.88
54 | 22°15′.87 | 162°12′.18
55 | 22°17′.70 | 162°17′.31
56 | 22°19′.97 | 162°22′.20
57 | 22°22′.73 | 162°26′.84
58 | 22°25′.88 | 162°31′.15
59 | 22°29′.41 | 162°35′.09
60 | 22°33′.28 | 162°38′.61
61 | 22°37′.47 | 162°41′.72
62 | 22°41′.93 | 162°44′.34
63 | 22°46′.63 | 162°46′.47
64 | 22°51′.48 | 162°48′.05
65 | 22°56′.46 | 162°49′.09
66 | 23°01′.50 | 162°49′.58
67 | 23°06′.58 | 162°49′.49
68 | 23°11′.61 | 162°48′.89
69 | 23°16′.57 | 162°47′.70
70 | 23°21′.36 | 162°45′.98
71 | 23°26′.02 | 162°43′.75
72 | 23°30′.40 | 162°41′.01
73 | 23°34′.51 | 162°37′.83
74 | 23°38′.26 | 162°34′.18
75 | 23°41′.69 | 162°30′.18
76 | 23°44′.72 | 162°25′.79
77 | 23°47′.36 | 162°21′.11
78 | 23°49′.55 | 162°16′.16
79 | 23°51′.24 | 162°10′.99
80 | 23°52′.44 | 162°05′.63
81 | 23°53′.14 | 162°00′.25
82 | 23°53′.36 | 161°54′.75
83 | 23°53′.09 | 161°49′.28
84 | 23°52′.82 | 161°47′.09
85 | 23°52′.39 | 161°44′.67

6. Add Appendix E to Part 404 to read as follows:

Appendix E to Part 404—Content and Syntax for Papahānaumokuākea Ship Reporting System

Immediately upon crossing the reporting area boundary, notification should be sent as a direct e-mail to nwhi.notifications@noaa.gov in the prescribed format and data syntax shown. Use of batch message routing services which may delay receipt of a report should not be used. Failure to follow the exact format (e.g., extra information, extraneous characters, or double spacing) may cause the automated computer system to reject your report. Note: Report transmission costs via INMARSAT-C will be assumed by NOAA.

E.1 Entry Notification Format

Immediately upon entering the Reporting Area, vessels required to participate must provide the following information.

Table E.1—Information required for entry notification
Telegraphy | Function: System identifier | Information required: CORAL SHIPREP // | Example field text: CORAL SHIPREP //
A | Ship | Vessel name/call sign/flag/IMO number/Federal documentation or State registration number if applicable // | A/OCEAN VOYAGER/C5FU8/BAHAMAS/IMO 9359165//
B | Date, time (UTC), and month of entry | A 6-digit group giving day of month (first two digits), hours and minutes (last four digits) in coordinated universal time, suffixed by the letter Z (indicating time in UTC), and three letters indicating month // | B/271107Z DEC//
C | Position | A 4-digit group giving latitude in degrees and minutes, suffixed with the letter N (indicating north), followed by a single /, and a five-digit group giving longitude in degrees and minutes, suffixed with the letter W (indicating west) // [Report in the World Geodetic System 1984 Datum (WGS-84)] | C/2728N/17356W//
E | True course | 3-digit number indicating true course // | E/180//
F | Speed in knots and tenths | 3-digit group indicating knots decimal tenths // | F/20.5//
I | Destination and estimated time of arrival | Name of port city/country/estimated arrival date and time group expressed as in (B) // | I/SEATTLE/USA/311230Z DEC//
L | Intended route through the reporting area | Route information should be reported as a direct rhumbline (RL) course through the reporting area and intended speed (expressed as in E and F) or a series of waypoints (WP). Each waypoint entry should be reported as latitude and longitude, expressed as in (C), and intended speed between waypoints (as in F) // (Note: As many “L” lines as needed may be used to describe the vessel's intended route.) | L/RL/215/20.5// -OR- L/WP/2734N/17352W/20.5// L/WP/2641N/17413W/20.5// L/WP/2605N/17530W/20.5//
O | Vessel draft in meters | Maximum present static draft reported in meters decimal centimeters // | O/11.50//
P | Categories of Hazardous Cargoes* | Classification Code (e.g. IMDG, IBC, IGC, INF) / and all corresponding Categories of Hazardous Cargoes (delimited by commas) // Note: If necessary, use a separate “P” line for each type of Classification Code | P/IMDG/1.4G,2.1,2.2,2.3,3,4.1,6.1,8,9//
Q | Defects or deficiencies** | Brief details of defects, damage, deficiencies or limitations that restrict maneuverability or impair normal navigation // (If none, enter the number zero.) | Q/Include details as required//
R | Pollution incident or goods lost overboard** | Description of pollution incident or goods lost overboard within the Monument, the Reporting Area, or the U.S. Exclusive Economic Zone//(If none, enter the number zero.) | R/0//
T | Contact information of ship's agent or owner | Name/address/and phone number of ship's agent or owner // | T/JOHN DOE/GENERIC SHIPPING COMPANY INC, 6101 ACME ROAD, ROOM 123, CITY, STATE, COUNTRY 12345/123-123-1234//
U | Ship size (length overall and gross tonnage) and type | Length overall reported in meters decimal centimeters/number of gross tons/type of ship (e.g. bulk carrier, chemical tanker, oil tanker, gas tanker, container, general cargo, fishing vessel, research, passenger, OBO, RORO) // | U/294.14/54592/CONTAINER SHIP//
W | Persons | Total number of persons on board // | W/15//
Table E.1 Notes
*Categories of hazardous cargoes means goods classified in the International Maritime Dangerous Goods (IMDG) Code; substances classified in chapter 17 of the International Code for the Construction and Equipment of Ships Carrying Dangerous Chemicals in Bulk (IBC Code) and chapter 19 of the International Code for the Construction and Equipment of Ships Carrying Liquefied Gases in Bulk (IGC Code); oils as defined in MARPOL Annex I; noxious liquid substances as defined in MARPOL Annex II; harmful substances as defined in MARPOL Annex III; and radioactive materials specified in the Code for the Safe Carriage of the Irradiated Nuclear Fuel, Plutonium and High-Level Radioactive Wastes in Flasks on Board Ships (INF Code).
**In accordance with the provisions of the MARPOL Convention, ships must report information relating to defects, damage, deficiencies or other limitations as well as, if necessary, information relating to pollution incidents or loss of cargo. Safety related reports must be provided to CORAL SHIPREP without delay should a ship suffer damage, failure or breakdown affecting the safety of the ship (Item Q), or if a ship makes a marked deviation from a route, course or speed previously advised (Item L). Pollution or cargo lost overboard must be reported without delay (Item R).

E.2 Prior Notification of Entry Format

Vessels of the United States less than 300 gross tonnage that are not equipped with onboard e-mail capability must provide the following notification of entry at least 72 hrs, but no longer than 1 month, prior to entry date, utilizing the data syntax described above. Notification may be made via the following communication methods, listed in order of preference: E-mail [nwhi.notifications@noaa.gov]; fax [1-808-397-2662]; telephone [1-866-478-NWHI (6944), 1-808-395-NWHI (6944)].

Table E.2—Information Required for Prior Notification
System identifier | PRIOR NOTICE //.
Items | A, B, C (as applicable), I, L, O, P (as applicable), Q, T, U, W.

E.3 Exit Notification Format

Immediately upon leaving the Reporting Area, vessels required to participate must provide the following information. Vessels of the United States less than 300 gross tonnage that are not equipped with onboard e-mail capability must provide the following Exit Notification information within 12 hrs of leaving the Reporting Area. Notification may be made via the following communication methods, listed in order of preference: E-mail [nwhi.notifications@noaa.gov]; fax [1-808-397-2662]; telephone [1-866-478-NWHI (6944), 1-808-395-NWHI (6944)].

Table E.3—Information Required for Exit Notification
Telegraphy | Function: System identifier | Information required: CORAL SHIPREP // | Example field text: CORAL SHIPREP//
A | Ship | Vessel name / call sign / flag / IMO number / Federal documentation or State registration number if applicable // | A/OCEAN VOYAGER/C5FU8/BAHAMAS/IMO9359165//
B | Date, time (UTC), and month of exit | A 6-digit group giving day of month (first two digits), hours and minutes (last four digits), suffixed by the letter Z indicating time in UTC, and three letters indicating month// | B/271657Z DEC//
C | Position | A 4-digit group giving latitude in degrees and minutes, suffixed with the letter N (indicating north), followed by a single //, and a five digit group giving longitude in degrees and minutes, suffixed with the letter W (indicating west) // [Report in the World Geodetic System 1984 Datum (WGS-84)] | C/2605N/17530W//
R | Pollution incident or goods lost overboard | Description of pollution incident or goods lost overboard within the Monument, the Reporting Area, or the U.S. Exclusive Economic Zone // (If none, enter the number zero) | R/0//

E.4 Example Entry Report

CORAL SHIPREP//

A/SEA ROVER/WFSU/USA/IMO 8674208/DOC 602011//

B/010915Z JUN//

C/2636N/17600W//

E/050//

F/20.0//

I/LOS ANGELES/USA/081215Z JUN//

L/RL/050/20.0//

O/10.90//

P/IMDG/3,4.1,6.1,8,9//

Q/0//

R/0//

T/JOHN DOE/CONTAINER SHIPPERS INC, 500 PORT ROAD, ROOM 123, LOS ANGELES, CA, USA 90050/213-123-1234//

U/199.90/27227/CONTAINER SHIP//

W/15//

E.5 Example Exit Report

CORAL SHIPREP//

A/SEA ROVER/WFSU/USA/IMO 8674208/DOC 602011//

B/011515Z JUN//

C/2747N/17416W//

R/0//

[FR Doc. E8-28245 Filed 12-2-08; 8:45 am]

BILLING CODE 3510-22-P